DEPARTMENT OF TRANSPORTATION

Pipeline and Hazardous Materials Safety Administration

[Docket ID PHMSA-2012-0021]

Pipeline Safety: Notice of Public Meetings on Improving Pipeline Leak Detection System Effectiveness and Understanding the Application of Automatic/Remote Control Valves

AGENCY: Pipeline and Hazardous Materials Safety Administration (PHMSA), DOT.

ACTION: Notice of workshop.

SUMMARY: The recent passage of the Pipeline Safety, Regulatory Certainty, and Job Creation Act of 2011 has set forth several mandates and reports to Congress that PHMSA must complete. Reports on leak detection and automatic/remote control valves are among these mandates. PHMSA is sponsoring these public meetings to further study how to encourage operators to expand the use of leak detection systems (LDS) and improve system effectiveness on the Nation's pipeline infrastructure and how remote control and automatic control valves can be installed to lessen the volume of natural gas and hazardous liquid released during catastrophic pipeline events.

DATES: The public meeting on Improving Pipeline Leak Detection System Effectiveness will be held on Tuesday, March 27, 2012, from 8 a.m. to 6 p.m. EDT. The public meeting on Understanding the Application of Automatic and Remote Control Valves will be held on Wednesday, March 28, 2012, from 8 a.m. to 4 p.m. EDT. Name badge pick-up and on-site registration will be available starting at 7:30 a.m. each day. Refer to the meeting Web site for updated registration information, agenda and times at https://primis.phmsa.dot.gov/meetings/MtgHome.mtg?mtg=75. Please note that both meetings will be webcast in their entirety. The webcast link will be posted on the above meeting page prior to the event. All presentations will be available on the meeting Web site within days following these public meetings.

ADDRESSES: The public meetings will be held at The Hilton Washington, DC/Rockville Hotel, 1750 Rockville Pike, Rockville, MD 20852, Phone: 301-468-1100, Fax: 301-468-0308, http://www1.hilton.com/en_US/hi/hotel/IADMRHF-Hilton-Washington-DC-Rockville-Hotel-Executive-Meeting-Ctr-Maryland/index.do. Please contact the Hilton to reserve a room using “U.S. Department of Transportation” or “USD” for the room block name at the rate of $224/night. This room rate is available for the night of March 26 through the night of March 28 until the reserved rooms at this rate are taken. Please also contact the Hilton for information on facilities or services for individuals with disabilities or to request special assistance during these public meetings. The meeting room will be posted at the hotel on the days of the workshop.

Public Meetings Registration: Please visit https://primis.phmsa.dot.gov/meetings/MtgHome.mtg?mtg=75 and click on these public meetings to register.

FOR FURTHER INFORMATION CONTACT: Patricia Jasion at 202-366-4774, or by email at patricia.jasion@DOT.gov.

SUPPLEMENTARY INFORMATION: PHMSA will be holding two public meetings designed to provide an open forum for exchanging information on the challenges associated with LDS and automatic/remote control valves. Specifically, these public meetings will facilitate individual panel discussions for the following objectives:

March 27

Improving Pipeline Leak Detection System Effectiveness

1. Inform the public, Federal and state regulatory agencies and legislators in Congress on state-of-the-art leak detection systems and the practical considerations involved with deploying and maintaining these systems.

2. Identify the constraints and issues with deploying systems on existing and new construction pipelines.

3. Collect public input that will help guide a PHMSA study investigating and documenting detection system challenges and considerations. Information from that study will help craft a future report to Congress.

March 28

Understanding the Application of Automatic Control and Remote Control Valves

1. Gather and disseminate information on the state-of-the-art of automatic/remote control valve operations on the practical considerations involved with installing, operating and maintaining these valves.

2. Identify the constraints with deploying systems on existing versus new construction pipelines.

3. Collect public input that will help guide a PHMSA study investigating and documenting automatic control and remote control valve challenges and considerations. Information from that final report will help craft a future report to Congress.

Preliminary Agenda for the Public Meeting on Improving Pipeline Leak Detection System Effectiveness—Tuesday, March 27

8 a.m. Welcome/Event Objectives/Importance

8:10 a.m. Panel 1: Considerations for Hazardous Liquid Pipeline Leak Detection Systems

10:10 a.m. Break

10:25 a.m. Panel 2: Hazardous Liquid Pipeline Leak Detection System Capabilities and Research

12:30 p.m. Lunch

1:30 p.m. Panel 3: Considerations for Natural Gas Pipeline Leak Detection Systems

3:30 p.m. Break

3:45 p.m. Panel 4: Natural Gas Pipeline Leak Detection System Capabilities and Research

5:45 p.m. Wrap-Up/Next Steps

6 p.m. Adjournment

Preliminary Agenda for the Public Meeting on Understanding the Application of Automatic Control and Remote Control Valves—Wednesday, March 28

8 a.m. Welcome/Event Objectives/Importance

8:10 a.m. Panel 1: Valve Considerations for Hazardous Liquid Pipelines

10:10 a.m. Break

10:25 a.m. Panel 2: Valve Considerations for Natural Gas Transmission Pipelines

12:30 p.m. Lunch

2 p.m. Panel 3: Valve Capabilities, Limitations and Research

4 p.m. Wrap-Up/Next Steps

4:15 p.m. Adjournment

Please note that there are objectives for each panel and that they are posted on the meeting Web site. This information will explicitly illustrate the rigor of considerations regarding the subject matter and how they tie to the event goals.

Webcasting: Both public meetings will be webcasted. Please refer to this event listed on https://primis.phmsa.dot.gov/meetings/MtgHome.mtg?mtg=75 for more information.

Issued in Washington, DC on February 2, 2012.
Jeffrey D. Wiese,
Associate Administrator for Pipeline Safety.

[FR Doc. 2012-2929 Filed 2-8-12; 8:45 am]

BILLING CODE 4910-60-P